DEPARTMENT OF AGRICULTURE

Submission for OMB Review; Comment Request

February 14, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by March 22, 2018 will be considered. Written comments should be addressed to: Desk Officer for Agriculture, Office of Information and Regulatory Affairs, Office of Management and Budget (OMB), New Executive Office Building, 725 17th Street NW, Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Federal and Non-Federal Financial Assistance Instruments.

OMB Control Number: 0596-0217.

Summary of Collection: In order to carry out specific Forest Service (FS) activities, Congress created several authorities to assist the Agency in carrying out its mission. Authorized by the Federal Grants and Cooperative Agreements Act (FGCAA), the FS issues Federal Financial Assistance awards, (i.e., grants and cooperative agreements). Agency specific authorities and appropriations also support use of Federal Financial Assistance awards. In addition to FFA, Congress created specific authorizations for acts outside the scope of the FGCAA. Appropriations language was developed to convey authority for the Forest Service to enter into relationships that are outside the scope of the FGCAA. Information in this request is collected from individuals; non-profit and for-profit institutions; institutions of higher education and state, local, and Native American tribal governments etc. Multiple options are available for respondents to respond including forms, non-forms, electronically, face-to-face, by telephone and over the internet.

Need and Use of the Information: From the pre-award to the close-out stage, FS will collect information from respondents on forms, via emails, meetings, and telephone calls. Using various forms respondents will describe the type of project, project scope, financial plan and other factors. To reach management decision on several Office of the Inspector General (OIG) Recommendations from the American Recovery and Reinvestment Act—Forest Service Hazardous Fuels Reduction and Ecosystem Restoration Projects on Non-Federal Lands Audit (Report No. 08703-0005-SF, Issued March 2013), several new forms were created. In addition, mandatory post-award meetings must be held for each new Federal financial assistance award. Without this information the FS would not be able to develop, implement, monitor and administer these agreements and comply with the OIG audit recommendations.

Description of Respondents: Business or other for-profit; Not-for-profit Institutions; State, Local or Tribal Government; Individuals.

Number of Respondents: 4,874.

Frequency of Responses: Recordkeeping; Reporting: Quarterly; On occasion.

Total Burden Hours: 49,751.

Ruth Brown,
Departmental Information Collection Clearance Officer.

[FR Doc. 2018-03348 Filed 2-16-18; 8:45 am]

BILLING CODE 3411-15-P